NATIONAL SCIENCE FOUNDATION ADVISORY

Committee for Social, Behavioral, and Economic Sciences Notice of Meeting

In accordance with Federal Advisory Committee Act (Pub. L. 92-463, as amended), the National Science Foundation announces the following meeting:

Name: Advisory Committee for Social, Behavioral, and Economic Sciences (#1171).

Date/Time: September 7, 2010; 8:30 a.m. to 6 p.m. September 8, 2010; 8:30 a.m. to 3 p.m.

Place: National Science Foundation, 4201 Wilson Boulevard, Stafford II, Room 595, Arlington, VA 22230.

Type of Meeting: Open.

Contact Person: Ms. Lisa Jones, Office of the Assistant Director, Directorate for Social, Behavioral, and Economic Sciences, National Science Foundation, 4201 Wilson Boulevard, Room 905, Arlington, Virginia 22230, 703-292-8700.

Summary of Minutes: May be obtained from contact person listed above.

Purpose of Meeting: To provide advice and recommendation to the National Science Foundation on major goals and policies pertaining to Social, Behavioral and Economic Sciences Directorate programs and activities.

Agenda: Updates and discussions on continuing activities Planning for FY 2011 and beyond.

Dated: August 12, 2010.
Susanne Bolton,
Committee Management Officer.

[FR Doc. 2010-20253 Filed 8-16-10; 8:45 am]

BILLING CODE 7555-01-P